DEPARTMENT OF HEALTH AND HUMAN SERVICES

National Institutes of Health

Proposed Collection; Comment Request, Fogarty International Center CareerTrac

SUMMARY: In compliance with the requirement of Section 3506(c)(2)(A) of the Paperwork Reduction Act of 1995, for opportunity for public comment on proposed data collection projects, the Fogarty International Center, the National Institutes of Health (NIH) will publish periodic summaries of proposed projects to be submitted to the Office of Management and Budget (OMB) for review and approval.

Proposed Collection

Title: Fogarty International Center CareerTrac.

Type of Information Collection Request: NEW.

Need and Use of Information Collection: This data collection system is being developed to track, evaluate and report short and long-term output, outcomes and impacts of international trainees involved in health research training programs—specifically tracking this for at least ten years following training. The data collection system provides a streamlined, Web-based application permitting principal investigators to record career achievement progress by trainee on a voluntary basis. FIC Program Managers will use this data to monitor, evaluate and adjust grants to ensure desired outcomes are achieved, comply with OMB Part requirements for managing grants, respond to congressional inquiries, and as a guide to in future strategic and management decisions regarding the grants training program.

Frequency of Response: Annual and periodic.

Affected Public: none.

Type of Respondents: Principal Investigators funded by Fogarty International Center.

The annual reporting burden is as follows:

Estimated Number of Respondents: 150;

Estimated Number of Responses per Respondent: 15;

Average Burden Hours per Response: .50; and

Estimated Total Annual Burden Hours Requested: 1125.

The annualized cost to respondents is estimated at $87,939. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Flora Katz, Fogarty International Center, National Institutes of Health, 31 Center Drive, Building 31, Bethesda, MD 20892-2220 or call non-toll-free number 301-402-9591 or E-mail your request, including your address to: KatzF@mail.nih.gov.

Comments Due Date: Comments regarding this information collection are best assured of having their full effect if received within 60-days of the date of this publication.

Dated: February 1, 2006.
Richard Miller,
Executive Officer, FIC, National Institutes of Health.

[FR Doc. E6-2014 Filed 2-13-06; 8:45 am]

BILLING CODE 4140-01-P